DEPARTMENT OF ENERGY

Federal Energy Regulatory Commission

[Project No. 3407-088]

Big Wood Canal Company; Notice of Meeting

a. Project Name and Number: Magic Dam Hydroelectric Project No. 3407-088.

b. Applicant: Big Wood Canal Company.

c. Date and Time of Meeting: Wednesday, February 11, 2026 from 1:30 p.m. to 3:00 p.m. Eastern Time (11:30 a.m. to 1:00 p.m. Mountain Time).

d. FERC Contact: Ingrid Brofman at (202) 502-8347 or ingrid.brofman@ferc.gov.

e. Purpose of Meeting: Commission staff will hold a meeting with staff from the Idaho State Historic Preservation Office, U.S. Bureau of Land Management, and Big Wood Canal Company to discuss the Area of Potential Effects and other cultural resource related concerns for the Magic Dam Hydroelectric Project relicensing pursuant to section 106 of the National Historic Preservation Act. The meeting will be held virtually via Microsoft Teams.

f. A summary of the meeting will be placed in the public record of this proceeding. As appropriate, the meeting summary will include both a public, redacted version that excludes any information about the specific location of an archeological site or Native American cultural resource and an unredacted privileged version, if necessary.

(Authority: 18 CFR 2.1)

Dated: January 27, 2026.
Debbie-Anne A. Reese,
Secretary.

[FR Doc. 2026-01919 Filed 1-29-26; 8:45 am]

BILLING CODE 6717-01-P